ENVIRONMENTAL PROTECTION AGENCY

[FRL OP-OFA-189]

Environmental Impact Statements; Notice of Availability

Responsible Agency: Office of Federal Activities, General Information 202-564-5632 or https://www.epa.gov/nepa.

Weekly receipt of Environmental Impact Statements (EIS)

Filed July 21, 2025 10 a.m. EST Through July 28, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250101, Draft, USFS, WA, Spirit Lake Outflow Safety Improvement Project, Comment Period Ends: 10/30/2025, Contact: Kelsey Jolley 360-891-5021.

EIS No. 20250102, Final, USA, AZ, Yuma Proving Ground Highway 95 Land Withdrawal Legislative Environmental Impact Statement, Review Period Ends: 09/12/2025, Contact: Daniel Steward 928-328-2125.

Dated: July 28, 2025.
Nancy Abrams,
Associate Director, Office of Federal Activities.

[FR Doc. 2025-14598 Filed 7-31-25; 8:45 am]

BILLING CODE 6560-50-P